DEPARTMENT OF THE INTERIOR

Bureau of Indian Affairs

[DT64101000.DSB4A0000.T7AC00.24IA; OMB CONTROL NUMBER 1035-0005]

Agency Information Collection Activities; Tribal Trust Evaluations for Compact Tribes

AGENCY: Office of the Assistant Secretary-Indian Affairs, Bureau of Trust Funds Administration (formerly known as the Office of the Special Trustee for American Indians), Bureau of Indian Affairs, Department of the Interior.

ACTION: Notice of information collection; request for comment.

SUMMARY: In accordance with the Paperwork Reduction Act of 1995 (PRA), we, the Bureau of Trust Funds Administration (BTFA, formerly known as the Office of the Special Trustee for American Indians) are proposing to renew an information collection.

DATES: Interested persons are invited to submit comments on or before May 28, 2021.

ADDRESSES: Send your comments on this information collection request (ICR) by mail to Nina Alexander, Bureau of Trust Funds Administration Director of Federal Information Resources, 4400 Masthead NE, Albuquerque, NM 87109; or by email to Nina_Alexander@btfa.gov. Please reference Office of Management and Budget (OMB) Control Number 1035-0005 in the subject line of your comments.

FOR FURTHER INFORMATION CONTACT: To request additional information about this ICR, contact Nina Alexander by email at Nina_Alexander@btfa.gov or by telephone at 505-273-1620.

SUPPLEMENTARY INFORMATION: In accordance with the PRA and 5 CFR 1320.8(d)(1), all information collections require approval under the PRA. We may not conduct or sponsor, and you are not required to respond to, a collection of information unless it displays a currently valid OMB control number.

As part of our continuing effort to reduce paperwork and respondent burdens, we invite the public and other Federal agencies to comment on new, proposed, revised, and continuing collections of information. This helps us assess the impact of our information collection requirements and minimize the public's reporting burden. It also helps the public understand our information collection requirements and provide the requested data in the desired format.

We are especially interested in public comment addressing the following:

(1) Whether or not the collection of information is necessary for the proper performance of the functions of the agency, including whether or not the information will have practical utility;

(2) The accuracy of our estimate of the burden for this collection of information, including the validity of the methodology and assumptions used;

(3) Ways to enhance the quality, utility, and clarity of the information to be collected; and

(4) How might the agency minimize the burden of the collection of information on those who are to respond, including through the use of appropriate automated, electronic, mechanical, or other technological collection techniques or other forms of information technology, e.g., permitting electronic submission of response.

Comments that you submit in response to this notice are a matter of public record. We will include or summarize each comment in our request to OMB to approve this ICR. Before including your address, phone number, email address, or other personal identifying information in your comment, you should be aware that your entire comment—including your personal identifying information—may be made publicly available at any time. While you can ask us in your comment to withhold your personal identifying information from public review, we cannot guarantee that we will be able to do so.

Abstract: As codified in 25 U.S.C. 4001, The American Indian Trust Fund Management Reform Act of 1994 (the Reform Act) makes provisions for the Bureau of Trust Funds Administration (formerly known as the Office of the Special Trustee for American Indians) to administer trust fund accounts for individuals and tribes. This collection of information is required to fulfill the mission of the Bureau of Trust Funds Administration (BTFA) and the Secretary of the Interior's responsibility for evaluating all Public Law 93-638 Compact Tribes administering or managing trust programs, functions, services, and/or activities on behalf of the Secretary of the Interior. This responsibility is federally mandated pursuant to 25 U.S.C. 458cc(d) and 25 CFR 1000.350. The BTFA, Office of Trust Risk, Evaluation and Compliance currently performs the evaluations by collecting Tribal trust data and documentation from approximately 126 Compacted Tribes. These evaluations are conducted by performing desk reviews (via email questionnaires, and teleconferences), and on-site visits. The results are documented in a final report which is submitted to the Tribe(s) with copies to select government officials. The data is also reported in the annual report to Congress through the Office of Self-Governance.

The original 2018 request for the OMB Form 1035-0005 to be approved included language regarding the automation of the questionnaires that make up the 1035-0005 collection. This would have provided the Compacted Tribes access to the questionnaires through a Tribal Evaluation System (TES) that the Office of the Special Trustee for American Indians (OST) was developing. System development reviews identified a number of problematic issues with TES, including potential vulnerabilities to the system. As a result, the system development ended, which lead to the system being formally decommissioned by OST in 2020. This request for renewal of 1035-0005 is for the continued approved use of the collection (questionnaires) only.

Title of Collection: Tribal Trust Evaluations, 25 CFR 1000.350.

OMB Control Number: 1035.

Form Number: 0005.

Type of Review: Extension of a currently approved collection.

Respondents/Affected Public: Public Law 93-638 Compacted Tribes.

Total Estimated Number of Annual Respondents: 64 Tribes.

Total Estimated Number of Annual Responses: 640.

Estimated Completion Time per Response: 3 hours.

Total Estimated Number of Annual Burden Hours: 1,920.

Respondent's Obligation: Required to Obtain or Maintain a Benefit.

Frequency of Collection: Bi-Annually.

Total Estimated Annual Non-Hour Burden Cost: $71,654.

(64 respondents × average of 10 questionnaires per year × 3 hours per questionnaire = 1,920 × $37.32 (Business and Financial Operations Classification) = $71,654.

An agency may not conduct or sponsor, and a person is not required to respond to a collection of information, unless it displays a currently valid OMB control number.

The authority for this action is the Paperwork Reduction Act of 1995 (44 U.S.C. 3501 et seq.).

John Montel,
Associate Chief Information Officer.

[FR Doc. 2021-06418 Filed 3-26-21; 8:45 am]

BILLING CODE 4334-63-P